DEPARTMENT OF TRANSPORTATION

Federal Aviation Administration

14 CFR Part 71

[Docket No. FAA-2011-0625; Airspace Docket No. 11-AEA-16]

Amendment of Class D and E Airspace; North Philadelphia, PA

AGENCY: Federal Aviation Administration (FAA), DOT.

ACTION: Final rule.

SUMMARY: This action amends Class D and Class E airspace at Northeast Philadelphia Airport, North Philadelphia, PA, due to the closing of Willow Grove Naval Air Station and Warminster Naval Air Warfare Center (NAWC). This action also corrects a typographic error in the regulatory text for the Class E airspace radius and ceiling level, and adjusts the geographic coordinates of the airport. This action enhances the safety and airspace management of Instrument Flight Rules (IFR) operations in the North Philadelphia, PA, airspace area.

DATES: Effective date: 0901 UTC, February 9, 2012. The Director of the Federal Register approves this incorporation by reference action under title 1, Code of Federal Regulations, part 51, subject to the annual revision of FAA Order 7400.9 and publication of conforming amendments.

FOR FURTHER INFORMATION CONTACT: John Fornito, Airspace Specialist, Operations Support Group, Eastern Service Center, Air Traffic Organization, Federal Aviation Administration, P.O. Box 20636, Atlanta, Georgia 30320; telephone (404) 305-6364.

SUPPLEMENTARY INFORMATION:

History

On August 10, 2011, the FAA published in the Federal Register a notice of proposed rulemaking (NPRM) to amend Class D and Class E airspace at Northeast Philadelphia Airport, North Philadelphia, PA. (76 FR 49383). Interested parties were invited to participate in this rulemaking effort by submitting written comments on the proposal to the FAA. No comments were received. Subsequent to publication, the FAA found a typographic error in the regulatory text for the radius of the controlled airspace listed for Class E surface airspace, and makes the correction from a 5-mile radius to a 5.6-mile radius of the airport, and also removes reference to the ceiling level that was cited in error. Also, the geographic coordinates of the airport are adjusted.

Class D and E airspace designations are published in paragraphs 5000 and 6002, respectively, of FAA Order 7400.9V dated August 9, 2011, and effective September 15, 2011, which is incorporated by reference in 14 CFR 71.1. The Class D and Class E airspace designations listed in this document will be published subsequently in the Order.

The Rule

This action amends Title 14, Code of Federal Regulations (14 CFR) part 71 to amend Class D airspace and Class E surface airspace at Northeast Philadelphia Airport, North Philadelphia, PA. The Class D and Class E surface airspace is reconfigured due to the closing of the Willow Grove Naval Air Station and Warminster NAWC. The boundary radius of the controlled airspace listed in the regulatory text for Class E airspace is corrected from a 5-mile radius to a 5.6-mile radius of the airport and reference to the ceiling level listed for Class E airspace is removed. Also, the geographic coordinates of the airport are adjusted to be in concert with the FAAs aeronautical database. This action enhances the safety and management of IFR operations at the airport.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, would not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part, A, Subpart I, Section 40103. Under that section, the FAA is charged with prescribing regulations to assign the use of airspace necessary to ensure the safety of aircraft and the efficient use of airspace. This regulation is within the scope of that authority as it amends Class D and E airspace at Northeast Philadelphia Airport, North Philadelphia, PA.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9V, Airspace Designations and Reporting Points, dated August 9, 2011, and effective September 15, 2011, is amended as follows:

Paragraph 5000 Class D Airspace.

* * * * *

AEA PA D North Philadelphia, PA [Amended]

Northeast Philadelphia Airport, Philadelphia, PA

(Lat. 40°04′55″ N., long. 75°00′38″ W.)

That airspace extending upward from the surface to and including 2,600 feet MSL within a 5.6-mile radius of the Northeast Philadelphia Airport. This Class D airspace area is effective during the specific dates and times established in advance by a Notice to Airmen. The effective date and time will thereafter be continuously published in the Airport/Facility Directory.

Paragraph 6002 Class E airspace designated as surface areas.

* * * * *

AEA PA E2 North Philadelphia, PA [Amended]

Northeast Philadelphia Airport, Philadelphia, PA

(Lat. 40°04′55″ N., long. 75°00′38″ W.)

That airspace extending upward from the surface within a 5.6-mile radius of the Northeast Philadelphia Airport. This Class E airspace area is effective during the specific dates and times established in advance by a Notice to Airmen. The effective date and time will thereafter be continuously published in the Airport/Facility Directory.

Issued in College Park, Georgia, on November 29, 2011.
Mark D. Ward,
Manager, Operation Support Group, Eastern Service Center, Air Traffic Organization.

[FR Doc. 2011-31854 Filed 12-13-11; 8:45 am]

BILLING CODE 4910-13-P